DEPARTMENT OF LABOR

Employment and Training Administration

[A-W-55,636]

Notice of Affirmative Determination Regarding Application for Reconsideration; Fleetguard Corporation Subsidiary of Cummins Corporation; Cookeville, TN

By application of November 12, 2004, the Tennessee AFL-CIO Labor Council requested administrative reconsideration of the Department's Negative Determination Regarding Eligibility for workers and former workers of the subject firm to Apply for Alternative Trade Adjustment Assistance (ATAA).

The determination was signed on October 22, 2004. The Notice was published in the Federal Register on November 12, 2004 (69 FR 65463).

The denial of ATAA was based on the finding that workers of the workers' firm possess skills that are easily transferable to another position in the local commuting area.

The Department has carefully reviewed the petitioner's request for reconsideration and has determined that the Department will conduct further investigation based on new information provided.

Conclusion

After careful review of the application, I conclude that the claim is of sufficient weight to justify reconsideration of the Department of Labor's prior decision. The application is, therefore, granted.

Signed at Washington, DC, this 18th day of November 2004.
Linda G. Poole,
Certifying Officer, Division of Trade Adjustment Assistance.

[FR Doc. E4-3524 Filed 12-6-04; 8:45 am]

BILLING CODE 4510-30-P